DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Residential Building or Zoning Permit Systems.

OMB Control Number: 0607-0350.

Form Number(s): C-411(V), C-411(M), C-411(C).

Type of Request: Revision of a currently approved collection.

Burden Hours: 500.

Number of Respondents: 2,000.

Average Hours per Response: 15 minutes.

Needs and Uses: The Census Bureau produces statistics used to monitor activity in the large and dynamic construction industry. These statistics help state and local governments and the federal government, as well as private industry, to analyze this important sector of the economy. The accuracy of the Census Bureau statistics regarding the amount of construction authorized depends on data supplied by building and zoning officials throughout the country. The Census Bureau uses Form C-411 to obtain information from state and local building permit officials needed for updating the universe of permit-issuing places which serves as the sampling frame for the Report of Privately-Owned Residential Building or Zoning Permits Issued (OMB number 0607-0094), also known as the Building Permits Survey (BPS), and the Survey of Housing Starts, Sales, and Completions (OMB number 0607-0110), also known as Survey of Construction (SOC). These two sample surveys provide widely used measures of construction activity, including the principal economic indicators New Residential Construction and New Home Sales. Data from the BPS and SOC are also used by the Bureau of Economic Analysis (BEA) in the calculation of estimates of the Residential Fixed Investment portion of the Nation's Gross Domestic Product (GDP). In addition, data from the BPS are used by the Census Bureau in the calculation of annual population estimates; these estimates are widely used by government agencies to allocate funding and other resources to local governments.

The questions on Form C-411 pertain to the legal requirements for issuing building or zoning permits in the local jurisdictions. Information is obtained on such items as geographic coverage and types of construction for which permits are issued.

We have redesigned the form to create three versions: C-411(V) for verification of coverage for jurisdictions with existing permit systems; C-411(M) for municipalities where a new permit system may have been established; and C-411(C) for counties where new permit systems may have been established.

This will clarify the instructions and the information requested in each of these situations but will not affect respondent burden.

The appropriate form is sent to a jurisdiction when we have reason to believe that a new permit system has been established or an existing one has changed. This is based on information from a variety of sources including survey respondents, regional councils and our own efforts to keep abreast of changes in corporate status.

We use the information to verify the existence of new permit systems or changes to existing systems. Based on the information, we add new permit-issuing places to the universe, delete places no longer issuing permits, and make changes to the universe to reflect those places that have merged.

Failure to maintain the universe of permit-issuing places would result in deficient samples and inaccurate statistics. This in turn jeopardizes the accuracy of the above mentioned economic indicators. These indicators are closely monitored by the Board of Governors of the Federal Reserve System and other economic policy makers because of the sensitivity of the housing industry to changes in interest rates.

Affected Public: State, local or Tribal Government.

Frequency: On occasion.

Respondent's Obligation: Voluntary.

Legal Authority: Title 13, United States Code, Sections 9(b), 161, and 182.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 15, 2011.
Glenna Mickelson,
Management Analyst, Office of the Chief Information Officer.

[FR Doc. 2011-21066 Filed 8-17-11; 8:45 am]

BILLING CODE 3510-07-P